DEPARTMENT OF HOUSING AND URBAN DEVELOPMENT

[Docket No. FR-4900-FA-31 & 32]

Notice of Funding Awards; Resident Opportunity and Self-Sufficiency and Neighborhood Networks Programs for Fiscal Year 2004

AGENCY: Office of Public and Indian Housing, HUD.

ACTION: Announcement of Funding Awards.

SUMMARY: In accordance with Section 102(a)(4)(C) of the Department of Housing and Urban Development Reform Act of 1989, this announcement notifies the public of funding decisions made by the Department for funding under the FY 2004 Notice of Funding Availability (NOFA) for the Resident Opportunity and Self Sufficiency Programs for Fiscal Year 2004. This announcement contains the consolidated names and addresses of those award recipients selected for each state.

FOR FURTHER INFORMATION CONTACT: For questions concerning the FY 2004 Resident Opportunities and Self Sufficiency (ROSS) awards, contact the Office of Public and Indian Housing's Grants Management Center, Director, Iredia Hutchinson, Department of Housing and Urban Development, Washington, DC, telephone (202) 402-0273. For the hearing or speech impaired, these numbers may be accessed via TTY (text telephone) by calling the Federal Information Relay Service at 1 (800) 877-8339. (Other than the “800” TTY number, these telephone numbers are not toll-free.)

SUPPLEMENTARY INFORMATION: The authority for $56.6 million in budget authority for use in the housing of elderly and non-elderly and disabled families is found in the Departments of Veteran Affairs and Housing and Urban Development and Independent Agencies Appropriations Act, (Pub. L. 108). The allocation of housing assistance budget authority is pursuant to the provisions of 24 CFR part 791, subpart D, implementing section 213(d) of the Housing and Community Development Act of 1974, as amended.

These programs are intended to provide funding under the Resident Opportunities and Self-Sufficiency (ROSS) program, to link services to public housing residents by providing grants for supportive service, resident empowerment activities, and activities that assist residents in becoming economically self-sufficient. The Fiscal Year 2004 awards announced in this Notice were selected for funding as announced in a Federal Register NOFA published on May 14, 2004 (68 FR 21905). Applications were scored based on the selection criteria in that Notice and funding selections were made based on the rating and ranking of applications within each State.

In accordance with Section 102(a)(4)(C) of the Department of Housing and Urban Development Reform Act of 1989 (Pub. L. 101-235, approved December 15, 1989), the Department is publishing the names, addresses, and amounts of a total of 162 awards made Resident Opportunities and Self Sufficiency and Neighborhood Network competitions.

Dated: December 10, 2007.
Orlando J. Cabrera,
Assistant Secretary for Public and Indian Housing, P.

Appendix A—Fiscal Year 2004 Funding Awards for the Resident Opportunities and Self Sufficiency Programs

Recipient | Address | City | State | Zip | Amount
ROSS Family Self Sufficiency
Mobile Housing Board | 151 South Claiborne Street | Mobile | AL | 36602 | $28,930
Tuscaloosa Housing Authority | P.O. Box 2281 2808 10th Avenue | Tuscaloosa | AL | 35403-2281 | 36,105
City of Phoenix Housing Department | 251 West Washington 4th Floor | Phoenix | AZ | 85003 | 27,209
City of Tucson | P.O. Box 27210 310 North Commerce Park Loop | Tucson | AZ | 85726-7210 | 25,250
Housing Authority of Maricopa County | 2024 North 7th Street Suite 101 | Phoenix | AZ | 85006 | 16,930
Housing Authority of the City of Yuma | 420 South Madison Avenue | Yuma | AZ | 85364 | 53,344
Housing Authority of the City of Madera | 205 North G Street | Madera | CA | 93637 | 45,450
Housing Authority of the City of San Luis Obispo | 487 Leff Street | San Luis Obispo | CA | 93401 | 31,482
Housing Authority of the County of Kern | 601-24th Street | Bakersfield | CA | 93301 | 45,770
Housing Authority of the County of Merced | 405 U Street | Merced | CA | 95340 | 58,365
Housing Authority of the County of Sacramento | 630 I Street | Sacramento | CA | 95814 | 4,632
Housing Authority, City of San Bernardino | 715 East Brier Drive | San Bernardino | CA | 92408-2841 | 63,000
San Diego Housing Commission | 1625 Newton Avenue | San Diego | CA | 92113-1038 | 63,000
Housing Authority of the City of Santa Barbara | 808 Laguna Street | Santa Barbara | CA | 93101 | 63,000
Housing Authority of the City of New Haven | 360 Orange Street | New Haven | CT | 06511 | 53,366
Meriden Housing Authority | 22 Church Street | Meriden | CT | 06451 | 50,000
Dover Housing Authority | 76 Stevenson Drive | Dover | DE | 19901 | 35,451
Fort Pierce Housing Authority | 707 North 7th Street | Fort Pierce | FL | 34950 | 22,624
Hialeah Housing Authority | 75 East 6th Street | Hialeah | FL | 33010 | 35,463
Jacksonville Housing Authority | 1300 Broad Street | Jacksonville | FL | 32202 | 41,150
Miami-Dade Housing Agency (MDHA) | 1401 Northwest 7th Street | Miami | FL | 33125 | 63,000
Tallahassee Housing Authority | 2940 Grady Road | Tallahassee | FL | 32312 | 4,002
The Housing Authority of the City of Bradenton Florida | 1307 6th Street West | Bradenton | FL | 34205 | 45,450
The Housing Authority of the City of Fort Myers | 4224 Michigan Avenue | Fort Myers | FL | 33916 | 51,343
The Housing Authority of the City of Tampa | 1514 Union Street | Tampa | FL | 33607 | 57,732
West Palm Beach Housing Authority | 1715 Division Avenue | West Palm Beach | FL | 33407 | 34,340
Macon Housing Authority | P.O. Box 4928 2015 Felton Avenue | Macon | GA | 31208-4928 | 55,738
Housing and Community Development Corporation of Hawaii | 677 Queen Street, Suite 300 | Honolulu | HI | 96813 | 48,840
Eastern Iowa Regional Housing Authority (EIRHA) | 3999 Pennsylvania Avenue, Suite 200 | Dubuque | IA | 52002 | 56,512
Nampa Housing Authority | 1703 Third Street North | Nampa | ID | 83687 | 23,028
Housing Authority of the City of Bloomington | 104 East Wood Street | Bloomington | IL | 61701 | 39,979
Housing Authority of the County of Cook | 310 South Michigan Avenue | Chicago | IL | 60604 | 46,500
Peoria Housing Authority | 100 South Richard Pryor Place | Peoria | IL | 61605 | 45,314
Rockford Housing Authority | 223 South Winnebago Street | Rockford | IL | 61102-2259 | 58,152
East Chicago Housing Authority | P.O. Box 498 4920 Larkspur Drive | East Chicago | IN | 46312 | 37,350
Housing Authority of the City of Kokomo | P.O. Box 1207 210 East Taylor Street | Kokomo | IN | 46903-1207 | 3,955
Indianapolis Housing Agency | 1919 North Meridian Street | Indianapolis | IN | 46202-1303 | 63,000
The Housing Authority of the City of New Albany, Indiana | P.O. Box 11 500 Scribner Drive | New Albany | IN | 47150 | 63,000
Lawrence-Douglas County Housing Authority | 1600 Haskell Avenue | Lawrence | KS | 66044 | 27,400
Housing Authority of Bowling Green | P.O. Box 116 | Bowling Green | KY | 42102 | 45,000
Louisville Metro Housing Authority | 420 South 8th Street | Louisville | KY | 40203 | 60,428
Housing Authority of Jefferson Parish—LA013 | 1718 Betty Street | Marrero | LA | 70072 | 42,420
Housing Authority of the City of Monroe | 300 Harrison Street | Monroe | LA | 71201 | 19,925
Holyoke Housing Authority | 475 Maple Street | Holyoke | MA | 01040 | 42,420
Lynn Housing Authority & Neighborhood Development (LHAND) | 10 Church Street | Lynn | MA | 01902 | 45,783
Housing Authority of the City of Hagerstown | 35 West Baltimore Street | Hagerstown | MD | 21740 | 93,358
Housing Opportunities Commission | 10400 Detrick Avenue | Kensington | MD | 20895 | 77,124
Rockville Housing Enterprises | 14 Moore Drive | Rockville | MD | 20850 | 20,200
Pinellas County Housing Authority | 11479 Ulmerton Road | Largo | MD | 33778 | 63,000
Housing Authority of the City of Brewer | One Colonial Circle | Brewer | ME | 04412 | 45,123
Housing and Redevelopment Authority of Virginia | P.O. Box 1148 Pine Mill Court | Virginia | MN | 55792 | 50,851
Minneapolis Public Housing Authority | 1001 Washington Avenue North | Minneapolis | MN | 55401 | 53,074
Washington County Housing and Redevelopment Authority | 321 Broadway Avenue | Saint Paul Park | MN | 55071 | 24,973
Housing Authority of Kansas City, Missouri | 301 East Armour | Kansas City | MO | 64111 | 9,123
St. Louis Housing Authority | 4100 Lindell Boulevard | St. Louis | MO | 63108 | 60,253
Housing Authority of the City of Biloxi | 330 Benachi Avenue | Biloxi | MS | 39530 | 40,000
The Housing Authority of the City of Meridian | 2425 E Street | Meridian | MS | 39301 | 45,560
City of Concord Housing Department | 283 Harold Goodman Circle | Concord | NC | 28025 | 41,480
Gastonia Housing Authority | P.O. Box 2398 340 West Long Avenue | Gastonia | NC | 28053-2398 | 46,718
Hickory Housing Authority | Post Office Box 2927 | Hickory | NC | 28603 | 41,694
Housing Authority of the City of Greenville, North Carolina | P.O. Box 1426 1103 Broad Street | Greenville | NC | 27835 | 40,148
Housing Authority of the City of High Point | 500 East Russell Avenue Post Office Box 1779 | High Point | NC | 27261 | 54,440
Housing Authority of the City of Kinston, North Carolina | 608 North Queen Street | Kinston | NC | 28501 | 40,506
Statesville Housing Authority | 110 West Allison Street | Statesville | NC | 28677 | 31,856
Housing Authority of the City of Lincoln | 5700 R Street | Lincoln | NE | 68505 | 58,511
Atlantic City Housing Authority | 227 North Vermont Avenue 17th Floor | Atlantic City | NJ | 08401 | 49,646
Millville Housing Authority | P.O. Box 803 309 Buck Street | Millville | NJ | 08332 | 21,152
New Brunswick Housing Authority | 270 George Street | New Brunswick | NJ | 08901 | 63,000
The Housing Authority of the City of Newark | 500 Broad Street, 6th Floor | Newark | NJ | 07102 | 107,826
City of Albuquerque | 1840 University Boulevard, South East | Albuquerque | NM | 87106 | 62,229
Santa Fe Civic Housing Authority, Inc. | 664 Alta Vista | Santa Fe | NM | 87505 | 38,885
Santa Fe County Housing Authority | 52 Camino de Jacobo | Santa Fe | NM | 87507 | 48,813
Truth Or Consequences Housing Authority | 108 South Cedar Street | Truth or Consequences | NM | 87901 | 9,292
City of Las Vegas Housing Authority | 340 North 11th Street | Las Vegas | NV | 89101 | 68,548
Housing Authority of the City of Reno | 1525 East 9th Street | Reno | NV | 89512-3012 | 25,068
Buffalo Municipal Housing Authority | 300 Perry Street | Buffalo | NY | 14204 | 60,606
Cohoes Housing Authority | 100 Manor Sites | Cohoes | NY | 12047 | 13,457
Geneva Housing Authority | P.O. Box 153 41 Lewis Street | Geneva | NY | 14456 | 57,176
New Rochelle Muncipal Housing Authority | 50 Sickles Avenue | New Rochelle | NY | 10801 | 63,000
Rochester Housing Authority | 675 West Main Street | Rochester | NY | 14611 | 53,777
Schenectady Municipal Housing Authority | 375 Broadway | Schenectady | NY | 12305 | 48,853
Akron Metropolitan Housing Authority | 100 West Cedar Street | Akron | OH | 44307-2502 | 35,121
Chillicothe Metropolitan Housing Authority | 178 West Fourth Street | Chillicothe | OH | 45601 | 21,180
Jefferson Metropolitan Housing Authority | 815 North 6th Avenue | Steubenville | OH | 43952 | 8,068
Lorain Metropolitan Housing Authority | 1600 Kansas Avenue | Lorain | OH | 44052 | 30,936
Lucas Metropolitan Housing Authority | 435 Nebraska Avenue | Toledo | OH | 43602 | 48,481
Trumbull Metropolitan Housing Authority | 4076 Youngstown Road South East Suite 101 | Warren | OH | 44484 | 43,200
Zanesville Metropolitan Housing Authority | 407 Pershing Road | Zanesville | OH | 43701 | 45,087
Housing Authority of the City of Lawton, Oklahoma | 609 South West F Avenue | Lawton | OK | 73501 | 21,665
Housing Authority of the City of Muskogee | 220 North 40th Street | Muskogee | OK | 74401 | 31,020
Housing Authority of the City of Ponca City | 201 East Broadway | Ponca City | OK | 74601 | 25,786
Housing Authority of the City of Shawnee, OK | 601 West 7th Street | Shawne | OK | 74802-3427 | 40,650
Housing Authority of the City of Stillwater | 807 South Lowry | Stillwater | OK | 74074 | 38,180
Housing Authority of the City of Tulsa | P.O. Box 6369 415 East Independence Street | Tulsa | OK | 74148-0369 | 2,512
Housing and Community Services Agency of Lane County | 177 Day Island Road | Eugene | OR | 97401 | 63,000
Housing Authority & Urban Renewal Agency of Polk County dba West Valley Housing Authority | P.O. Box 467 204 Southwest Walnut Avenue | Dallas | OR | 97338-0467 | 13,833
Housing Authority of Jackson County | 2251 Table Rock Road | Medford | OR | 97501 | 19,998
Housing Authority of Portland | 135 Southwest Ash Street | Portland | OR | 97204 | 62,525
Housing Authority of the City of Salem | P.O. Box 808 | Salem | OR | 97308-0808 | 59,262
The Housing Authority of the County of Umatilla | P.O. Box 107 155 Southwest 10th Street | Hermiston | OR | 97838 | 12,601
Allegheny County Housing Authority | 625 Stanwix Street 12th Floor | Pittsburgh | PA | 15222 | 61,812
Bethleham Housing Authority | 645 Main Street | Bethleham | PA | 18018 | 21,430
Housing Authority of Northumberland County | 50 Mahoning Street | Milton | PA | 17847 | 45,418
Housing Authority of the City of York | P.O. Box 1963 31 South Broad Street | York | PA | 17405 | 38,559
Philadelphia Housing Authority | 12 South 23rd Street | Philadelphia | PA | 19103 | 63,000
The Housing Authority of Cumberland County | 114 North Hanover Street | Carlisle | PA | 17013 | 13,334
Westmoreland County Housing Authority | R.D. #6 Box 223 South Greengate Road | Greensburg | PA | 15601 | 37,246
Providence Housing Authority | 100 Broad Street | Providence | RI | 02903 | 55,333
The Housing Authority of the City of Pawtucket | 214 Roosevelt Avenue | Pawtucket | RI | 02860 | 23,302
Woonsocket Housing Authority | 679 Social Street | Woonsocket | RI | 02895 | 45,248
Housing Authority of the City of Columbia, South Carolina | 1917 Harden Street | Columbia | SC | 29204-1015 | 29,203
The Housing Authority of the City of Greenville, South Carolina | 511 Augusta Street | Greenville | SC | 29603 | 16,045
The Housing Authority of the City of Spartanburg, South Carolina | 325 South Church Street P.O. Box 2828 | Spartanburg | SC | 29304 | 47,250
Crossville Housing Authority | 67 Irwin Avenue P.O. Box 425 | Crossville | TN | 38555 | 50,450
Jackson Housing Authority—JHA | 125 Preston Street | Jackson | TN | 38301 | 82,868
Metropolitan Development and Housing Agency | P.O. Box 846 | Nashville | TN | 37202 | 56,277
Beaumont Housing Authority | 4925 Concord | Beaumont | TX | 77708 | 26,710
Housing Authority of the City of Austin (HACA) | 1640 East 2nd Street | Austin | TX | 78702 | 46,713
Housing Authority of the City of Waco | P.O. Box 978 4400 Cobbs Drive | Waco | TX | 76703-0978 | 21,349
The Housing Authority of the City of Dallas, Texas | 3939 North Hampton Road | Dallas | TX | 75212 | 62,270
The Housing Authority of the City of San Antonio | 818 South Flores Street | San Antonio | TX | 78204 | 279,161
Housing Authority of Salt Lake City | 1776 South West Temple | Salt Lake City | UT | 84115 | 54,903
Housing Authority of the County of Salt Lake | 3595 South Main Street | Salt Lake City | UT | 84115 | 52,212
Norfolk Redevelopment and Housing Authority | 910 Ballentine Boulevard | Norfolk | VA | 23504 | 39,183
Richmond Redevelopment and Housing Authority | P.O. Box 26887 901 Chamberlayne Parkway | Richmond | VA | 23261 | 63,000
Roanoke Redevelopment and Housing Authority | 2624 Salem Turnpike Northwest | Roanoke | VA | 24017 | 60,339
Housing Authority of the City of Tacoma | 902 South L Street | Tacoma | WA | 98405 | 51,552
King County Housing Authority | 600 Andover Park West | Tukwila | WA | 98188 | 3,676
Seattle Housing Authority | P.O. Box 19028 120 Sixth Avenue North | Seattle | WA | 98109-1028 | 60,421
Housing Authority of the City of Milwaukee | 809 North Broadway | Milwaukee | WI | 53202 | 63,000
Housing Authority of the City of Charleston | 911 Michael Avenue P.O. Box 86 | Charleston | WV | 25312 | 40,370
Parkersburg Housing Authority | 1901 Cameron Avenue | Parkersburg | WV | 26101 | 33,405
Wheeling Housing Authority | P.O. Box 2089 | Wheeling | WV | 26003 | 42,198
ROSS Homeownership Supportive Services
Housing Authority of the City of Oakland | 1619 Harrison Street | Oakland | CA | 94612-3307 | 500,000
Housing Authority of the County of Cook | 310 South Michigan Avenue—Suite 1500 | Chicago | IL | 60604 | 250,000
Quincy Housing Authority | 80 Clay Street | Quincy | MA | 02170 | 250,000
Housing Authority of the City of Camden | 1300 Admiral Wilson Boulevard | Camden | NJ | 08102 | 350,000
Memphis Housing Authority | 700 Adams Avenue | Memphis | TN | 38105 | 265,009
Danville Redevelopment and Housing Authority | 651 Cardinal Place | Danville | VA | 24541 | 250,000
Housing Authority of the City of Milwaukee | 809 North Broadway | Milwaukee | WI | 53202 | 350,000
ROSS Resident Service Delivery Models—Elderly
Lutheran Social Ministry of the Southwest | 5049 East Broadway Boulevard, Suite 102 | Tuscon | AZ | 85711 | 375,000
Housing Authority of the County of Los Angeles | 2 Coral Circle | Los Angeles | CA | 91755 | 400,000
Housing Authority of the City of New Haven | 360 Orange Street | New Haven | CT | 06511 | 300,000
Meriden Housing Authority | 22 Church Street | New Haven | CT | 06451 | 300,000
Housing and Community Development Corporation of Hawaii | 677 Queen Street, Suite 300 | Honolulu | HI | 96813 | 400,000
Housing Authority of Hopkinsville | P.O. Box 437 400 North Elm Street | Christian | KY | 42241-0437 | 65,000
Housing Authority of Maysville | 600 Clark Street | Mason | KY | 41056 | 200,000
Holyoke Housing Authority | 475 Maple Street | Hampden | MA | 01040 | 300,000
Housing Authority of the City of Camden | 1300 Admiral Wilson Boulevard | Camden | NJ | 08102 | 300,000
Cohoes Housing Authority | 100 Manor Sites | Albany | NY | 12047 | 109,158
Newark Housing Authority | P.O. Box 108 200 Driving Park Circle | Wayne | NY | 14513-0108 | 101,350
Village of Great Neck Housing Authority | 700 Middle Neck Road | Nassau | NY | 11023-1242 | 160,855
Housing Authority of the City of Shawnee, Oklahoma | P.O. Box 3427 601 West 7th Street | Pottawatomie | OK | 74802-3427 | 200,000
Hazleton Housing Authority | 320 West Mine Street | Luzerne | PA | 18201 | 100,000
Housing Auhtority of Luzerne County | 250 First Avenue | Luzerne | PA | 18704 | 300,000
Friends of Housing Corporation | 9141 West Libson Avenue | Milwaukee | WI | 53222 | 375,000
Resident Service Delivery Models—Family
City of Glendale Community Housing Division | 6842 North 61st Avenue | Glendale | AZ | 85301 | 250,000
City of Tucson | P.O. Box 27210 310 North Commerce Park Loop | Tucson | AZ | 85726-7210 | 350,000
Housing Authority of the County of San Bernardino | 715 East Brier Drive | San Bernardino | CA | 92408-2841 | 350,000
Housing Authority of the County of San Diego | 3989 Ruffin Road | San Diego | CA | 92123 | 250,000
San Diego Housing Commission | 1625 Newton Avenue | San Diego | CA | 92113-1038 | 350,000
The Housing Authority of the County of Los Angeles | 2 Coral Circle | Monterey Park | CA | 91755 | 350,000
Housing Authority of the City of Pueblo | 1414 North Santa Fe Avenue, 10th Floor | Pueblo | CO | 81008 | 350,000
Lakewood Housing Authority | 480 South Allison Parkway | Lakewood | CO | 80226 | 150,000
Housing Authority of the City of New Haven | 360 Orange Street | New Haven | CT | 6511 | 350,000
Housing Authority of the City of Norwalk | 24½ Monroe Street | Norwalk | CT | 06856-0508 | 250,000
Fort Pierce Housing Authority | 707 North 7th Street | Fort Pierce | FL | 34950 | 250,000
Housing Authority of Brevard County | 615 Kurek Court | Merritt Island | FL | 32953 | 249,884
Housing Authority of the City of Fort Myers | 4224 Michigan Avenue | Fort Myers | FL | 33916 | 250,000
The Housing Authority of the City of Bradenton, Florida | 1307 6th Street West | Bradenton | FL | 34205 | 250,000
Housing Authority of Columbus, Georgia | P.O. Box 630 | Columbus | GA | 31902-0630 | 349,985
Housing Authority of the City of Cordele, Georgia | 401 South Tenth Street | Cordele | GA | 31015 | 250,000
Housing Authority of Paducah | 2330 Ohio Street | Paducah | KY | 42003 | 250,000
Housing Authority of the City of Monroe | 300 Harrison Street | Monroe | LA | 71201 | 350,000
Quincy Housing Authority | 80 Clay Street | Quincy | MA | 2170 | 250,000
Housing Authority of the City of Frederick | 209 Madison Street | Frederick | MD | 21701 | 250,000
Housing Authority of the City of Brewer | One Colonial Circle | Brewer | ME | 4412 | 250,000
Presque Isle Housing Authority | 58 Birch Street | Presque Isle | ME | 4769 | 250,000
Housing Authority of St Louis County | 8865 Natural Bridge | Saint Louis | MO | 63121 | 250,000
City of Hickory Public Housing Authority | P.O. Box 2927 | Hickory | NC | 28603 | 250,000
Town of Chapel Hill Housing Department | 317 Caldwell Street | Chapel Hill | NC | 27516 | 248,240
Nashua Housing Authority | 40 East Pearl Street | Nashua | NH | 03060-3462 | 203,330
Housing Authority of the City of Camden | 1300 Admiral Wilson Boulevard | Camden | NJ | 8102 | 350,000
Housing Authority of the City of Paterson | 60 Van Houten Street | Paterson | NJ | 7505 | 250,000
Northern Pueblos Housing Authority | 5 West Gutierrez, Suite 10 | Santa Fe | NM | 87506 | 175,670
Housing Authority of the City of Reno | 1525 East 9th Street | Reno | NV | 89512-3012 | 250,000
Zanesville Metropolitan Housing Authority | 407 Pershing Road | Zanesville | OH | 43701 | 250,000
Housing Authority of the City of Tulsa | P.O. Box 6369 415 East Independence Street | Tulsa | OK | 74148-0369 | 349,841
Oklahoma City Housing Authority | 1700 Northeast Fourth Street | Oklahoma City | OK | 73117 | 350,000
Housing Authority of Portland | 135 South West Ash Street | Portland | OR | 97204 | 349,993
Housing Authority of the City of York | P.O. Box 1963 31 South Broad Street | York | PA | 17405 | 250,000
London Bridge Child Care Center | 165/145 Duke Street | East Greenwich | RI | 2818 | 125,000
Providence Housing Authority | 100 Broad Street | Providence | RI | 2903 | 350,000
Woonsocket Housing Authority | 679 Social Street | Woonsocket | RI | 2895 | 250,000
Housing Authority of the City of Austin (HACA) | 1640 East 2nd Street | Austin | TX | 78702 | 349,379
Housing Authority of the City of El Paso (HACEP) | 5300 Paisano Drive | El Paso | TX | 79905 | 500,000
Housing Authority of the City of Fort Worth | 1201 East 13th Street | Fort Worth | TX | 76102 | 350,000
Temple Housing Authority | P.O. Box 1326 | Temple | TX | 76503-1326 | 85,022
The Housing Authority of the City of Dallas, Texas | 3939 North Hampton Road | Dallas | TX | 75212 | 500,000
The Housing Authority of the City of Texarkana, Texas | 1611 North Robison Road | Texarkana | TX | 75501 | 250,000
City of Roanoke Redevelopment & Housing Authority | 2624 Salem Turnpike, NW | Roanoke | VA | 24017 | 350,000
Danville Redevelopment and Housing Authority | 651 Cardinal Place | Danville | VA | 24541 | 250,000
Norfolk Redevelopment and Housing Authority | 201 Granby Street | Norfolk | VA | 23504 | 500,000
Pleasant View Tenant Association, Inc. | 101 Pleasant View Avenue | Danville | VA | 24541 | 125,000
Housing Authority of the City of Bremerton | P.O. Box 4460 110 Russell Road | Bremerton | WA | 98312 | 250,000
Housing Authority of the City of Tacoma | 902 South L. Street | PieTacoma | WA | 98405 | 350,000
Housing Authority of the County of Clallam | 2603 South Francis Street | Port Angeles | WA | 98362 | 248,532
Kitsap County Consolidated Housing Authority | 9307 Bayshore Drive, Northwest | Silverdale | WA | 98383 | 250,000
Seattle Housing Authority | 120 Sixth Avenue North | Seattle | WA | 98109-1028 | 350,000
YWCA of Seattle-King County-Snohomish County | 1118—Senaca | Seattle | WA | 98101 | 125,000
Housing Authority of the City of Milwaukee | 809 North Broadway | Milwaukee | WI | 53202 | 350,000
Neighborhood Networks
Housing Authority of the City of Oakland | 1619 Harrison Street | Oakland | CA | 94612-3307 | 500,000
Housing Authority of the County of Cook | 310 South Michigan Avenue, Suite 1500 | Chicago | IL | 60604 | 250,000
Quincy Housing Authority | 80 Clay Street | Quincy | MA | 2170 | 250,000
Housing Authority of the City of Camden | 1300 Admiral Wilson Boulevard | Camden | NJ | 8102 | 350,000
Memphis Housing Authority | 700 Adams Avenue | Memphis | TN | 38105 | 265,009
Danville Redevelopment and Housing Authority | 651 Cardinal Place | Danville | VA | 24541 | 250,000
Housing Authority of the City of Milwaukee | 809 North Broadway | Milwaukee | WI | 53202 | 350,000

[FR Doc. E8-1455 Filed 1-25-08; 8:45 am]

BILLING CODE 4210-67-P